DEPARTMENT OF HOMELAND SECURITY

Coast Guard

33 CFR Part 165

[Docket No. USCG-2025-0471]

Safety Zone; Festival of the Fish Fireworks, Vermilion, OH

AGENCY: Coast Guard, DHS.

ACTION: Notification of enforcement of regulation.

SUMMARY: The Coast Guard will enforce a safety zone for the Festival of the Fish fireworks display in Vermilion, OH. This action is intended to protect personnel, vessels, and the marine environment from potential hazards created by a fireworks display. During the enforcement period listed below, entry into, transiting, or anchoring within the safety zone is prohibited unless authorized by the Captain of the Port (COTP) Eastern Great Lakes or his or her on-scene representative.

DATES: The regulations in 33 CFR 165.939 will be enforced for the Festival of the Fish fireworks display safety zone event listed in paragraph (f) item no. 1 in Table 1 to § 165.939, from 9:00 p.m. to 11:30 p.m. on June 13, 2025.

FOR FURTHER INFORMATION CONTACT: If you have questions about this notification of enforcement, call or email Petty Officer Andrew Nevenner, Marine Safety Unit Cleveland, U.S. Coast Guard; telephone 216-937-0111, email D09-SMB-MSUCLEVELAND-WWM@uscg.mil.

SUPPLEMENTARY INFORMATION: The Coast Guard will enforce a safety zone regulation in 33 CFR 165.939 for the annual Festival of the Fish fireworks display in Vermilion, OH listed in paragraph (f) no. item 1 in Table 1 to § 165.939, from 9:00 p.m. to 11:30 p.m., on June 16, 2025. This action is being taken to provide for the safety of life on navigable waterways during this event. The regulation for recurring marine events within the Captain of the Port (COTP) Sector Eastern Great Lakes, Table 1 to § 165.939, paragraph (f) no. item 1, specifies the location of the regulated area for the Festival of the Fish fireworks display event. During the enforcement period, no vessel or person will be permitted to enter the safety zone without obtaining permission from the COTP Sector Eastern Great Lakes or his or her on-scene representative.

In addition to this notification of enforcement in the Federal Register, the Coast Guard will provide notification of this enforcement period via Broadcast Notice to Mariners.

Dated: June 5, 2025.
Sean M. Murray,
Commander, U.S. Coast Guard, Alternate Captain of the Port Eastern Great Lakes.

[FR Doc. 2025-10672 Filed 6-11-25; 8:45 am]

BILLING CODE 9110-04-P